DEPARTMENT OF COMMERCE

National Oceanic and Atmospheric Administration

RIN 0648-POL-A001

Meeting of the Marine Fisheries Advisory Committee

AGENCY: National Marine Fisheries Service (NMFS), National Oceanic and Atmospheric Administration (NOAA), Commerce.

ACTION: Notice of open public meeting.

SUMMARY: This notice sets forth the proposed schedule and agenda of a forthcoming meeting of the Marine Fisheries Advisory Committee (MAFAC). The members will discuss and approve comments and recommendations on the draft NOAA Strategic Aquaculture Science Plan.

DATES: The meeting will be July 1, 2019, 3:00-4:30 p.m., Eastern Time.

ADDRESSES: Meeting is by conference call.

FOR FURTHER INFORMATION CONTACT: Heidi Lovett; NOAA Fisheries Office of Policy; (301) 427-8034; email: Heidi.Lovett@noaa.gov.

SUPPLEMENTARY INFORMATION: Notice is hereby given of a meeting of MAFAC. The MAFAC was established by the Secretary of Commerce (Secretary), and, since 1971, advises the Secretary on all living marine resource matters that are the responsibility of the Department of Commerce. The MAFAC charter and summaries of prior MAFAC meetings are located online at https://www.fisheries.noaa.gov/topic/partners#marine-fisheries-advisory-committee-.

Matters To Be Considered

The Committee is convening to discuss and approve comments on the Draft NOAA Strategic Aquaculture Science Plan. Other administrative matters may be considered. This date, time, and agenda are subject to change.

Time and Date

The meeting is scheduled for July 1, 2019, 3:00-4:30 p.m., Eastern Time by conference call and webinar. Access information for the public will be posted at https://www.fisheries.noaa.gov/national/partners/marine-fisheries-advisory-committee-meeting-materials-and-summaries by June 21, 2019.

Special Accommodations

These meetings are physically accessible to people with disabilities. Requests for auxiliary aids should be directed to Heidi Lovett, (301) 427-8034 by June 24, 2019.

Dated: June 11, 2019.
Jennifer L. Lukens,
Federal Program Officer, Marine Fisheries Advisory Committee, National Marine Fisheries Service.

[FR Doc. 2019-12702 Filed 6-14-19; 8:45 am]

BILLING CODE 3510-22-P